DEPARTMENT OF THE TREASURY

Office of the Comptroller of the Currency

[OCC Charter Number 700528]

Home Federal Savings and Loan Association of Collinsville, Collinsville, Illinois; Approval of Conversion Application

Notice is hereby given that on May 12, 2016, the Office of the Comptroller of the Currency (OCC) approved the application of Home Federal Savings and Loan Association of Collinsville, Collinsville, Illinois, to convert to the stock form of organization. Copies of the application are available for inspection on the OCC Web site at the FOIA Electronic Reading Room https://foia-pal.occ.gov/palMain.aspx. If you have any questions, please call OCC Licensing Activities at (202) 649-6260.

Dated: May 17, 2016.
By the Office of the Comptroller of the Currency.
Stephen A. Lybarger,
Deputy Comptroller for Licensing.

[FR Doc. 2016-12489 Filed 5-25-16; 8:45 am]

BILLING CODE 4810-33-P